DEPARTMENT OF JUSTICE

Notice of Lodging of Consent Decree Pursuant to the Clean Water Act

Notice is hereby given that on August 18, 2009, a proposed Consent Decree in United States v. Cooper Land Development, (W.D. Mo.), No. 08-0709-CV-W-SOW, was lodged with the United States Court for the Western District of Missouri.

In this action, the United States sought the penalties and injunctive relief pursuant to sections 301 and 309 of the Clean Water Act, 33 U.S.C. 1311, 1319, against Cooper Land Development (“Cooper”). The Complaint alleged that Cooper violated its National Pollution Discharge Elimination System (“NPDES”) storm water permits at two residential construction sites in Daniels, West Virginia and Raymore, Missouri.

Pursuant to the proposed Consent Decree, the Settling Defendants will pay to the United States $513,740 in penalties for the violations alleged in the Complaint. Cooper will also undertake injunctive measures aimed at improving its compliance with storm water requirements and NPDES permits at its residential construction sites.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Cooper Land Development, (W.D. Mo.) No. 08-0709-CV-W-SOW, D.J. Ref. 90-5-1-1-09005.

During the public comment period, the Consent Decree may be examined at the Office of the United States Attorney, Western District of Missouri, Charles Evans Whittaker Courthouse, 400 East Ninth Street, Room 5510, Kansas City, Missouri 64106. The Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $26.50 (25 cents per page reproduction cost) payable to the U.S. Treasury.

Maureen Katz,
Assistant Section Chief, Environmental Enforcement Section.

[FR Doc. E9-20383 Filed 8-24-09; 8:45 am]

BILLING CODE 4410-15-P